DEPARTMENT OF LABOR

Employment and Training Administration.

Announcement Regarding a Change in Eligibility for Unemployment Insurance (UI) Claimants in Alaska, Georgia, Louisiana, Maryland, Mississippi, Missouri, Montana, Ohio, South Carolina and Texas in the Emergency Unemployment Compensation 2008 (EUC08) Program, and the Federal-State Extended Benefits (EB) Program

AGENCY: Employment and Training Administration, Labor.

ACTION: Notice.

SUMMARY: Announcement regarding a change in eligibility for Unemployment Insurance (UI) claimants in Alaska, Georgia, Louisiana, Maryland, Mississippi, Missouri, Montana, Ohio, South Carolina and Texas in the Emergency Unemployment Compensation (EUC08) program, and the Federal-State Extended Benefits (EB) program.

The U.S. Department of Labor (Department) produces trigger notices indicating which states qualify for both EB and EUC08 benefits, and provides the beginning and ending dates of payable periods for each qualifying state. The trigger notices covering state eligibility for these programs can be found at: http://ows.doleta.gov/unemploy/claims_arch.asp.

The following changes have occurred since the publication of the last notice regarding states EUC08 and EB trigger status:

• Maryland and Texas have triggered “off” in Tier 3 of EUC08

Maryland and Texas began a 13-week mandatory “on” period in Tier 3 of EUC08 on October 7, 2012. Based on data released from the Bureau of Labor Statistics, these states are below the 7.0 percent threshold rate necessary to remain “on” in Tier 3 of EUC08. As a result, they have concluded a payable period in Tier 3 and the week ending January 5, 2013, was the last week in which EUC08 claimants in these states could exhaust Tier 2, and establish Tier 3 eligibility. Under the phase-out provisions, claimants could receive any remaining entitlement they had in Tier 3 after January 5, 2013.

• Georgia, Mississippi and South Carolina have triggered “off” in Tier 4 of EUC08.

The three month average, seasonally adjusted total unemployment rate in these states fell below the 9.0 percent threshold rate to remain “on” in Tier 4 of EUC08. This triggered these states “off” of Tier 4 and the week ending January 12, 2013, was the last week in which EUC08 claimants in these states could exhaust Tier 3, and establish Tier 4 eligibility. Under the phase-out provisions, claimants could receive any remaining entitlement they had in Tier 4 after January 12, 2013.

• Louisiana, Missouri, and Ohio have triggered “off” in Tier 3 of EUC08.

The three month average, seasonally adjusted total unemployment rate in Louisiana, Missouri, and Ohio fell below the 7.0 percent threshold rate to remain “on” in Tier 3 of EUC08. This triggered these states “off” of Tier 3 and the week ending January 12, 2013, was the last week in which EUC08 claimants in these states could exhaust Tier 2, and establish Tier 3 eligibility. Under the phase-out provisions, claimants could receive any remaining entitlement they had in Tier 3 after January 12, 2013.

• Montana has triggered “off” in Tier 2 of EUC08.

The three month average, seasonally adjusted total unemployment rate in Montana fell below the 6.0 percent threshold rate to remain “on” in Tier 2 of EUC08. This triggered Montana “off” of Tier 2 and the week ending January 12, 2013, was the last week in which EUC08 claimants in Montana could have exhausted Tier 1, and establish Tier 2 eligibility. Under the phase-out provisions, claimants could receive any remaining entitlement they had in Tier 2 after January 12, 2013.

• Alaska has triggered “on” Tier 4 of EUC08.

Alaska's 13-week insured unemployment rate for the week ending January 19, 2013, rose to meet the 6 percent threshold to trigger “on” to Tier 4 of EUC08. The payable period for Alaska in Tier Four of EUC08 began February 3, 2013. As a result, the current maximum potential entitlement for claimants in Alaska in EUC08 has increased from 37 weeks to 47 weeks.

• Alaska triggers “on” to EB.

Alaska's 13-week insured unemployment rate for the week ending January 19, 2013, rose to meet the 6 percent threshold to trigger “on” to EB. Alaska's payable period in EB began February 3, 2013.

Information for Claimants

The duration of benefits payable in the EUC08 program, and the terms and conditions under which they are payable, are governed by Public Laws 110-252, 110-449, 111-5, 111-92, 111-118, 111-144, 111-157, 111-205, 111-312, 112-96, and 112-240, and the operating instructions issued to the states by the Department. The duration of benefits payable in the EB program, and the terms and conditions on which they are payable, are governed by the Federal-State Extended Unemployment Compensation Act of 1970, as amended, and the operating instructions issued to the states by the Department.

In the case of a state beginning or concluding a payable period in EB or EUC08, the State Workforce Agency (SWA) will furnish a written notice of any change in potential entitlement to each individual who could establish, or had established, eligibility for benefits (20 CFR 615.13 (c)(1) and (c)(4)). Persons who believe they may be entitled to benefits in the EB or EUC08 programs, or who wish to inquire about their rights under these programs, should contact their SWA.

FOR FURTHER INFORMATION CONTACT: Tony Sznoluch, U.S. Department of Labor, Employment and Training Administration, Office of Unemployment Insurance, 200 Constitution Avenue NW., Frances Perkins Bldg. Room S-4524, Washington, DC 20210, telephone number (202) 693-3176 (this is not a toll-free number) or by email: Sznoluch.anatoli@dol.gov.

Signed in Washington, DC, this 26th day of March, 2013.
Jane Oates,
Assistant Secretary for Employment and Training.

[FR Doc. 2013-07631 Filed 4-1-13; 8:45 am]

BILLING CODE 4510-FW-P